DEPARTMENT OF HEALTH AND HUMAN SERVICES

Office of the Secretary

Office of Public Health and Science; Statements of Organizations, Functions, and Delegations of Authority

Part A, Office of the Secretary (OS) of the Statement of Organization, Functions, and Delegation of Authority for the Department of Health and Human Services (HHS), chapter AC, Office of Public Health and Science (OPHS), as last amended at 67 FR 71568, dated December 2, 2002, is being amended to reflect the realignment of personnel oversight, administration, and management functions for the U.S. Public Health Service (PHS) Commissioned Corps in the OPHS. Specifically, it realigns these functions in a newly established Office of Commissioned Corps Force Management (ACQ) and in the Office of the Surgeon General (ACM). The changes are as follows:

I. Under Part A, Chapter AC, Office of Public Health and Science, make the following changes:

A. Under Paragraph AC.10 Organization, insert the following line at the end of the listing:

N. Office of Commissioned Corps Force Management (ACQ)

B. Under Paragraph AC.20, Functions, make the following changes:

1. Delete Paragraph, “K. Office of the Surgeon General (ACM),” in its entirety and replace with the following:

K. Office of the Surgeon General (ACM)

Section ACM.00 Mission—The Office of the Surgeon General (OSG) is headed by the SG who reports to the Assistant Secretary for Health (ASH), provides staff support for: (1) Activities relating to membership on the Board of Regents of the Uniformed Services University of the Health Sciences and as principal health official for PHS on matters related to policies affecting PHS faculty and students (10 U.S.C. 2113(a)(3)); (2) activities related to responsibilities on other boards are assigned, including the (a) National Library of Medicine; (b) Armed Forces Institute of Pathology (AFIP); (c) American Medical Association (AMA) House of Delegates; and (d) Executive Committee, Association of Military Surgeons of the United States. The Office provides support to the SG; (3) in issuing warnings to the public on identified health hazards; (4) for review of the particulars of Department of Defense (DoD) plans for transportation, open testing and disposal of lethal chemicals and biological agents and in recommending precautions necessary to protect the public health and safety binding on the Secretary, DoD, which can only be overridden by the President (50 U.S.C. 1512 (2) & (3)); (5) communicating with professional societies to receive, solicit, and channel concerns regarding health policy in behalf of the ASH; (6) maintaining liaison with the Surgeons General of the Armed Forces and the Department of Veterans Affairs; (7) representing PHS at national and international health and professional meetings to interpret PHS philosophy, policies, organizational responsibilities and programs, as assigned; (8) providing management and oversight for the community-based, civilian Medical Reserve Corps program; (9) providing liaison with governmental and non-governmental organizations on matters pertaining to military and veterans affairs; and, (10) assuring day-to-day management of the Corps' operations, force readiness, and field command of deployments of the Commissioned Corps.

Section ACM.10 Organization: includes the following components:

• Immediate Office of the Surgeon General (ACM)

• Office of Science and Communications (ACM1)

• Office of Commissioned Corps Operations (ACM2)

• Office of Force Readiness and Deployment (ACM3)

• Office of Reserve Affairs (ACM4)

Section ACM.20 Functions:

(a) Immediate Office of the Surgeon General (ACM): (1) Advises the ASH on matters relating to protecting and advancing the public health of the Nation; (2) manages special deployments that address Presidential and Secretarial initiatives directed toward resolving critical public health problems; (3) as requested, serves as a spokesperson on behalf of the Secretary and the ASH, addressing the quality of public health practice on the Nation; (4) provides supervision of activities relating to the day-to-day management of operations and deployment of officers of the Commissioned Corps; (5) provides advice to the ASH, collaborating with the Office of Commissioned Corps Management (OCCFM), on the policies and implementation related to the appointment, promotion, assimilation, recognition, professional development, and other matters required for the efficient management of the Corps; (6) provides liaison with governmental and non-governmental organizations on matters pertaining to military and veterans affairs; (7) directs and oversees internal office administrative operations (including proposing and executing office budgets); and (8) convenes periodic meetings of the flag officers to obtain senior level advice concerning the day-to-day management of Corps' operations.

(b) Office of Science and Communications (ACM1): (1) Coordinates activities to plan, develop, introduce, and evaluate Surgeon General's Reports, Calls-to-Action, workshops, and other authoritative statements; (2) advises the SG on science, data, and evidence pertaining to population-based public health and the furtherance of public health priorities; (3) represents the SG in efforts to coordinate federal public health activities with similar activities in the States and local areas; (4) coordinates and is responsible for the preparation of SG correspondence, speeches, and communications; (5) represents the SG at conferences, symposia, and community events; and (6) coordinates the receipt of senior level advice from the Chief Professional Officers, the Surgeon General's Professional Advisory Council, and categorical Professional Advisory Committees.

(c) Office of Commissioned Corps Operations (ACM2):

Section ACM2.00 Mission: (1) Provides advice to the SG on matters related to the day-to-day management of Commissioned Corps operations, including active duty and reserve components; (2) implements the policies established by the ASH for the operations of the PHS Commissioned Corps; (3) provides for the delivery of training and for career development, and applies professional credentialing requirements for the Corps; (4) manages systems required for selecting personnel for appointment, promotion, assimilation, and award recognition, for evaluating officer performance, and for processes required for disability retirement, disciplinary, and other-than-honorable discharge purposes; (5) implements officer and force accession plans through a staff of recruiters, including an Associate Recruiters Program; (6) manages personnel administration systems for the permanent or temporary assignment, deployment, and detail of Corps members; (7) implements policies established by the ASH for commissioned and warrant officers on active duty, Commissioned Officer Student Training Extern Program (COSTEP), reserve officers, retired officers, and survivors of deceased officers; (8) prepares all personnel orders for approval and signature by the ASH; (9) makes recommendations to the SG on individual details for review and action by the ASH; (10) reviews and makes recommendations on proposed blanket personnel agreements negotiated by the ASH; (11) reviews and makes recommendations on the temporary deployments of officers not specifically under an assignment to another Operating or Staff Division of the Department or another Department or agency covered by a memorandum of agreement or blanket detail agreement; (12) provides technical review and recommendations to the SG on appeals of adverse actions that would result in the termination of officers' commissions and on formal Equal Employment Opportunity complaints; (13) maintains liaison with the OCCFM, and, as directed, with Departmental Operating and Staff Divisions and, as directed, with non-departmental entities to which officers are assigned under blanket agreements; and (14) works with OCCFM and agencies to identify career development assignments, and to identify officers to be recommended for directed reassignments where appropriate.

Section ACM2.10 Organization. The Office of Commissioned Corps Operations is headed by a Director, who reports to the SG, and includes the following components:

• Immediate Office of the Director (ACM2)

• Division of Commissioned Corps Recruitment (ACM21)

• Division of Commissioned Corps Assignment (ACM22)

• Division of Commissioned Corps Training and Career Development (ACM23)

• Division of Commissioned Corps Officer Support (ACM24)

Section ACM2 2.0 Functions

(1) Immediate Office of the Director (ACM2): (1) Advises the SG on all matters related to the operations management of the PHS Commissioned Corps; (2) provides for the day-to-day management of Commissioned Corps operations, implements policies received from the ASH for personnel, training, readiness, assignment, deployment, promotion, and retirement for all officers; (3) collaborates with OCCFM on the development and implementation of Commissioned Corps policies; (4) coordinates the application of information technology and support for the execution of OSG activities; (5) manages the process for adverse action decisions and other-than-honorable discharges; and (6) is responsible for the appropriate exercise of delegated authorities and responsibilities.

(2) Division of Commissioned Corps Recruitment (ACM21): (1) Implements approved programs to assure awareness of the Corps and its career opportunities among health professional schools and associations, provider institutions, and the public; (2) in accordance with policies, goals, and strategies established by the ASH, carries out programs and activities designed to attract new health personnel to the Corps, to attract officers already in the Corps to designated assignments, and to promote the Corps and service in it; (3) manages an Associate Recruiter Program and otherwise mobilizes recruitment activity among the active duty, reserve, and retired officers; (4) assists OCCFM in promoting the effective and efficient utilization of the Corps within all venues where the Corps is utilized; and (5) carries out approved recruitment programs specifically for reserve components and other Corps personnel asset programs.

(3) Division of Commissioned Corps Assignments (ACM22): (1) Addresses and meets the short-term and long-term placement requirements for active-duty and reserve component personnel established by the ASH and developed by OCCFM, including the Commissioned Corps and the warrant Corps, by category; (2) works with OCCFM to identify and categorize the types of assignments for which Corps members and its reserve personnel assets may be required; (3) implements a billet management system utilizing standards developed by OCCFM, and approved by the ASH; (4) evaluates and grades billets to which officers are to be assigned in accordance with standards established by OCCFM; (5) assures that assignments of officers and the billets to which assigned are consistent and appropriately categorized and identified; (6) reviews all proposed officer personnel actions and prepares orders for signature by the ASH; (7) implements, manages, and monitors approved blanket personnel agreements and individual details; (8) reviews and recommends to the ASH the temporary deployment of all officers not specifically under an assignment to another operating or staff division of the Department or another department or agency; and (9) administers a system to monitor assignments.

(4) Division of Commissioned Corps Training and Career Development (ACM23): (1) Identifies and manages training resources required for establishing and maintaining the readiness and proficiency of the members of the Corps; (2) operates Commissioned Officer education and training systems, providing basic, mid-career, and specialized training programs; (3) monitors officer compliance with credentialing standards; (4) implements career development programs and provides individual career counseling; (5) coordinates COSTEP; (6) administers training programs; and (7) assists officers with retirement planning.

(5) Division of Commissioned Corps Officer Support (ACM24): (1) Coordinates the assignment of members of boards convened for the purpose of recommending appointments, promotions, assimilation actions, approval of award nominations, disability retirements, and other boards that may be required to support operations; (2) supports the boards convened by OSG; (3) administers a system for assuring credentialing, licensing, and other regulatory compliance, and for the periodic evaluation of the individual members of the Corps, including Corps reserve personnel assets; (4) reviews all personnel evaluations to assure that Corps standards are being maintained; and (5) maintains the official personnel records of the Corps.

(d) Office of Force Readiness and Deployment (ACM3): (1) Administers readiness activities to include (a) advice to the ASH and OCCFM on strategic and long term readiness planning, (b) assurance of the accuracy and maintenance of an adequate roster of the readiness status of officers, (c) development and maintenance of systems for the tracking, mission critical training, mobilization, and deployment of commissioned officers; (d) supervision of a teaching staff charged with officer instruction using plans, strategies, and materials, consistent with policy developed by the ASH, necessary for officers to fulfill readiness and deployment standards; and (e) coordination of logistics for after-action requirements about deployments; (2) administers and oversees mobile medical teams and other special operations team activities and supports the OASPHEP with resources as required for emergency operations at headquarters and in the field; (3) provides day-to-day management and oversight of the USA Freedom Corps Medical Reserve Corps (MRC) program by: (a) Managing the MRC grant program and (b) providing technical assistance to MRC communities on a variety of community and outreach issues; (4) maintains liaison with the OSPHEP and other Federal entities as appropriate; and (5) manages and supervises temporary deployments of all officers not specifically under an assignment to another Operating or Staff Division of the Department or another Department or agency.

(e) Office of Reserve Affairs (ACM4): (1) Develops and maintains reserve components or assets, except for extended active duty reserve officers, in accordance with established plans; (2) serves as the SG's principal advisor on activities related to the preparedness and activation of the Corps reserve personnel assets; (3) in conjunction with the OCCFM conducts strategic and long-term planning for Corps reserve personnel assets; and (4) coordinates the assignments of Corps reserve personnel assets, to support the missions of HHS as well as those of the DoD, the U.S. Coast Guard, the National Oceanographic and Atmospheric Administration, the Department of Justice, and other federal, state, and local agencies.

2. At the end of Section AC.20 Functions, insert the following new component:

N. Office of Commissioned Corps Force Management (ACQ)

Section ACQ.00 Mission. The Office of Commissioned Corps Force Management (OCCFM), under the direction of a Director who reports to the ASH, (1) Develops policies and proposes regulations in order to carry out a comprehensive force management program for the Commissioned Corps; (2) convenes and manages policy and planning related boards and committees; (3) develops workforce and officer standards, conducts workforce planning for all components of the Commissioned Corps and evaluates workforce effectiveness; (4) maintains the Commissioned Corps Personnel Manual (CCPM); (5) in coordination with OPHS budget staff, prepares and executes the Commissioned Corps Personnel Services budget as established through the Service and Supply Fund Board and provides liaison with that Board; (6) serves as the Secretariat for the Public Health Service Commissioned Corps Council; (7) convenes periodic meetings of the flag officers, on behalf of the Secretary and chaired by the ASH, to obtain senior level policy advise; (8) develops policies and programs for the recruitment, appointment, promotion, assimilation, training, and evaluation of all commissioned and warrant officers of the Commissioned Corps; (9) establishes time lines, performance standards, and measurements for the evaluation of the operations and management of the Commissioned Corps; (10) works closely with the OSG to facilitate operations and implementation of policies and programs; and (11) oversees the Beneficiary Medical Program, systems for the compensation of members of the Corps, and the programs for survivor assistance, medical affairs, and any other function that may be conducted in behalf of the ASH under a contract or memorandum of agreement, or performed within any other component of the department.

Section ACQ.10 Organization. The Office of Commissioned Corps Force Management is headed by a Director, who reports to the ASH, and includes the following components:

• Immediate Office of the Director (ACQ)

• Recruitment, Marketing, and Information Systems Division (ACQ1)

• Workforce Policy and Plans Division (ACQ2)

• Program Evaluation and Oversight Division (ACQ3)

Section ACQ.20 Functions:

(a) Immediate Office of the Director (ACQ): (1) Advises the ASH on all matters related to the development of policies affecting all officers, whether active-duty, reserve, or retired; (2) convenes and manages policy and planning related boards and committees; (3) directs the development of issuances and maintenance of the Commissioned Corps Personnel Manual, including all policies and regulations requiring approval of the ASH or the Secretary; (4) develops and executes the budget for the operation of OCCFM, including contracted or subsidiary services; (5) reviews the Commissioned Corps Personnel Services budget as established through the Service and Supply Fund Board and provides liaison with that Board; (6) oversees the policy development and implementation for the activities carried out by the Program Support Center (PSC) and/or other contractors for the implementation of Corps-related services; (7) assures the availability of information technology and support for the execution of Commissioned Corps personnel activities for OCCFM and OSG; (8) works with external federal and non-federal organizations to develop memorandums of agreement and contracts as required for the effective management and oversight of the Corps, including the proper assignment of contracted duties and evaluation of contractor performance; and (9) collaborates with other elements of the Department as appropriate to acquire legal opinions and services as needed, and coordinates legislative activities.

(b) Recruitment, Marketing, and Information Systems Division (ACQ1): (1) Develops recruitment strategies, programs, materials, and other resources directed toward attracting health professional audiences who are potential candidates to apply for and to become officers serving in the active duty and reserve components of the Commissioned Corps; (2) plans and prepares a public affairs program designed to raise awareness of members of the public, the press, and other external constituencies, to promote interest in the activities of the Commissioned Corps; (3) develops and oversees information technology and systems to support recruitment, personnel and Corps management functions and collaborates with the OSG on their implementation, usage, and improvement; (4) provides daily liaison with agencies and their respective human resource functions to promote the effective and efficient use of officers and to incorporate agency-specific marketing information into recruiting programs.

(c) Force Policy and Plans Division (ACQ2): (1) Conducts a program of comprehensive force planning including a billet evaluation and management system, including working with agencies to determine requirements for commissioned corps staffing by professional category, and developing short and long-term manpower projections to assist in directing recruitment; (2) develops issuances for, and maintains, the CCPM, as well as regulations required for the management of the Commissioned Corps; (3) develops a broad range of personnel standards, including commissioning, professional, and officer competency standards; (4) develops training and education policy and career development guidelines and materials; (5) develops and maintains policies for billet description, grading, and classification that reflect both commissioned corps and agency requirements; (6) advises the ASH on policy pertaining to deployments, and on mission nature, size, duration and mix and blend of the use of active duty and reserve officers for deployments; (7) conducts force planning for all elements of reserve assets, and recommends policy to support plans, goals, and objectives; (8) develops policy, guidelines, and standard memoranda of agreement for individual and blanket details; and (9) works with the Program Evaluation and Oversight Division and other uniformed services to identify and adapt best practices to improve efficiency and effectiveness, and for the purpose of developing systems to provide the highest quality services to the agencies and to the commissioned officer community.

(d) Program Evaluation and Oversight Division (ACQ3): (1) Develops and implements evaluations and assessments of the Commissioned Corps in meeting its goals, objectives and milestones; (2) manages relationships with the PSC and all contractors; (3) assures that programs contain appropriately time framed goals, objectives, and outcomes by which to monitor and assess progress and performance; (4) conducts after action assessments and evaluations pertaining to the use of the Commissioned Corps for deployments, special assignments, or other non-routine uses of officers; (5) oversees and evaluates the medical benefit and payroll programs; (6) conducts periodic program reviews of all aspects of the management and utilization of the Commissioned Corps; and (7) develops methods and approaches to monitor satisfaction and follow up concerning services provided to various customers, and provides feedback to program officials.

II. Continuation of Policy: Except as inconsistent with this reorganization, all statements of policy and interpretations with respect to the Commissioned Corps of the PHS heretofore issued and in effect prior to this reorganization are continue in full force and effect.

III. Delegation of Authority: All delegations and redelegations of authority made by officials and employees of affected organizational components will continue in them or their successors pending further redelegation, provided they are consistent with this reorganization.

IV. Funds, Personnel, and Equipment: Transfer of organizations and functions affected by this reorganization shall be accompanied by direct and support funds, positions, personnel, records, equipment, supplies and other resources.

Dated: December 11, 2003.
Ed Sontag,
Assistant Secretary for Administration and Management.

[FR Doc. 03-31242 Filed 12-17-03; 8:45 am]

BILLING CODE 4150-28-M